FEDERAL HOUSING FINANCE AGENCY

12 CFR Part 1204

RIN 2590-AA46

Privacy Act Implementation

AGENCY: Federal Housing Finance Agency.

ACTION: Final regulation.

SUMMARY: The Federal Housing Finance Agency (FHFA) is adopting as a final regulation the interim final regulation that revised FHFA's implementing regulation under the Privacy Act of 1974 (Privacy Act). The changes to the existing Privacy Act regulation provide the procedures and guidelines under which FHFA and the FHFA Office of Inspector General (FHFA-OIG) will implement the Privacy Act of 1974, as amended (5 U.S.C. 552a).

DATES: The final regulation is effective January 31, 2012.

FOR FURTHER INFORMATION CONTACT: Stacy J. Easter, Privacy Act Officer, (202) 649-3067, stacy.easter@fhfa.gov, or David A. Lee, Senior Agency Official for Privacy, (202) 649-3058, david.lee@fhfa.gov (not toll-free numbers), Federal Housing Finance Agency, 400 Seventh Street, SW., Eighth Floor, Washington, DC 20024. Please note that all mail sent to FHFA via the United States Postal Service is routed through a national irradiation facility, a process that may delay delivery by approximately two weeks. For any time-sensitive correspondence, please plan accordingly. The telephone number for the Telecommunications Device for the Deaf is (800) 877-8339.

SUPPLEMENTARY INFORMATION:

I. Background

In August 2011, FHFA published an interim final regulation with request for comments that revised its Privacy Act regulation. See 76 FR 51869 (Aug. 19, 2011). The revised Privacy Act regulation (12 CFR part 1204) provided the procedures and guidelines under which FHFA and FHFA-OIG will implement the Privacy Act. The 60-day public comment period for the interim final regulation closed on October 18, 2011. See 76 FR 51869.

II. Analysis of Public Comments and the Final Regulation

FHFA received no comments in response to the interim final regulation. Thus, for the reasons set forth in detail in the interim final regulation, FHFA is adopting the interim final regulation as a final regulation without any substantive changes. However, since the publication of the interim final regulation, FHFA has relocated its headquarters and its mailing address and contact information for the Privacy program has changed. As a result, FHFA will be making only technical changes to the regulation to include the new mailing address and facsimile numbers for the Privacy program.

III. Paperwork Reduction Act

The final regulation does not contain any information collection requirement that requires the approval of OMB under the Paperwork Reduction Act (44 U.S.C. 3501 et seq.).

IV. Regulatory Flexibility Act

The Regulatory Flexibility Act (5 U.S.C. 601 et seq.) requires that a regulation that has a significant economic impact on a substantial number of small entities, small businesses, or small organizations include an initial regulatory flexibility analysis describing the regulation's impact on small entities. Such an analysis need not be undertaken if the agency has certified that the regulation does not have a significant economic impact on a substantial number of small entities. 5 U.S.C. 605(b). FHFA has considered the impact of the final regulation under the Regulatory Flexibility Act. FHFA certifies that the regulation is not likely to have a significant economic impact on a substantial number of small business entities because the regulation is applicable to the internal operations and legal obligations of FHFA and FHFA-OIG.

List of Subjects in 12 CFR Part 1204

Amendment, Appeals, Correction, Disclosure, Exemptions, Fees, Privacy, Privacy Act, Records, Requests, Social Security numbers.

Authority and Issuance

For the reasons stated in the preamble, the interim final regulation amending 12 CFR part 1204 that was published in the Federal Register at 76 FR 51869 on August 19, 2011, is adopted as a final regulation with the following technical changes:

PART 1204—PRIVACY ACT IMPLEMENTATION

1. The authority citation for part 1204 continues to read as follows:

Authority: 5 U.S.C. 552a.

PART 1204—[AMENDED]

2. Amend part 1204 as follows:

a. Revise all references to “1700 G Street, NW., Washington, DC 20552” to read as “400 Seventh Street, SW., Eighth Floor, Washington, DC 20024”.

b. In § 1204.3(b) remove the facsimile number “(202) 414-6425” and add in its place “(202) 649-1073”.

c. In § 1204.5(b)(2) remove the facsimile number “(202) 414-8917” and add in its place “(202) 649-1073”.

Dated: January 24, 2012.
Edward J. DeMarco,
Acting Director, Federal Housing Finance Agency.

[FR Doc. 2012-1968 Filed 1-30-12; 8:45 am]

BILLING CODE 8070-01-P